DEPARTMENT OF TRANSPORTATION

Federal Highway Administration

Notice of Final Federal Agency Actions on Proposed Highway in Texas

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to various proposed highway projects in the State of Texas. Those actions grant licenses, permits and approvals for the projects.

DATES: By this notice, the FHWA is advising the public of final agency actions subject to 23 U.S.C. 139(l)(1). A claim seeking judicial review of the Federal agency actions on any of the listed highway projects will be barred unless the claim is filed on or before June 28, 2010. If the Federal law that authorizes judicial review of a claim provides a time period of less than 180 days for filing such claim, then that shorter time period still applies.

FOR FURTHER INFORMATION CONTACT: Salvador Deocampo, District Engineer, Texas Division, FHWA, J.J. Pickle Federal Building 300 East 8th Street, Room 826, Austin, Texas 78701; phone number 512-536-5950; e-mail: salvador.deocampo@fhwa.dot.gov. FHWA Texas Division normal business hours are 8 a.m. to 5 p.m. (central time) Monday through Friday. You may also contact Ms. Dianna Noble, P.E., Director Environmental Affairs Division, Texas Department of Transportation (TxDOT), 118 E. Riverside, Austin, Texas, 78704; phone number 512-416-2734; e-mail: dnoble@dot.state.tx.us. Texas Department of Transportation normal business hours are 8 a.m. to 5 p.m. (central time) Monday through Friday.

SUPPLEMENTARY INFORMATION: Notice is hereby given that the FHWA and other Federal agencies have taken final agency actions by issuing licenses, permits, and approvals for the highway projects in the State of Texas that are listed below. The actions by the Federal agencies on the project, and the laws under which such actions were taken, are described in the documented Environmental Assessment (EA) and Environmental Impact Statement (EIS) issued in connection with the projects, and in other documents project records. The EA, Findings of No Significant Impacts (FONSI), Record of Decision (ROD) and other project records for the listed projects are available by contacting the FHWA or the TxDOT at the addresses provided above and can be viewed and downloaded from each project's website found below.

This notice applies to all Federal agency decisions on the listed project as of the issuance date of this notice and all laws under which such actions were taken, including but not limited to:

1. General: National Environmental Policy Act (NEPA) [42 U.S.C. 4321 et seq.]; Federal-Aid Highway Act [23 U.S.C. 109].

2. Air: Clean Air Act [42 U.S.C. 7401-7671(q)].

3. Land: Section 4(f) of the Department of Transportation Act of 1966 [23 U.S.C. 138 and 49 U.S.C. 303].

4. Wildlife: Endangered Species Act [16 U.S.C. 1531-1544]; Fish and Wildlife Coordination Act [16 U.S.C. 661-667(d)]; and, Migratory Bird Treaty Act [16 U.S.C. 703-712].

5. Historic and Cultural Resources: Section 106 of the National Historic Preservation Act of 1966, as amended [16 U.S.C. 470]; Archaeological Resources Protection Act of 1979 [16 U.S.C. 470]; Archaeological and Historical Preservation Act [16 U.S.C. 469].

6. Social and Economic: Title VI of the Civil Rights Act of 1964 [42 U.S.C. 2000(d) et seq.]; Farmland Protection Policy Act (FPPA) [7 U.S.C. 4201-4209].

7. Wetlands and Water Resources: Clean Water Act [33 U.S.C. 1251-1342]; Land and Water Conservation Fund (LWCF) [16 U.S.C. 4601-4604].

8. Executive Orders: E.O. 11990 Protection of Wetlands; E.O. 11988 Floodplain Management; E.O. 12898, Federal Actions to Address Environmental Justice in Minority Populations and Low Income Populations; E.O. 11514 Protection and Enhancement of Environmental Quality.

The projects subject to this notice are:

1. Project Location: State Highway (SH) 121/SH 183 from Interstate (IH) 820 to SH 161 primarily within the cities of North Richland Hills, Hurst, Bedford, Euless, and Fort Worth in Tarrant and Dallas Counties. Project Reference Number: TxDOT CSJ: 0364-01-054, 0364-05-025, 0364-05-026, 0094-02-077.

Project Web site: http://www.txdot.gov/public_involvement/hearings_meetings/121_183.htm.

Project Type: The project will include a controlled access facility consisting of six to eight general purpose lanes and six managed lanes from IH 820 to SH 161. There will be three 12-foot wide general purpose lanes (non-toll) in each direction plus auxiliary lanes and 10-foot wide inside and outside shoulders from IH 820 to the SH 183/SH 360 interchange, and four 12-foot wide general purpose lanes (non-toll) in each direction plus auxiliary lanes and 10-foot wide inside and outside shoulders from the SH 183/SH 360 interchange to SH 161. Three managed (toll) lanes will be provided in each direction from IH 820 to SH 161. The proposed improvements will provide for two 12-foot wide eastbound and westbound frontage lanes, discontinuous at the SH 183/SH 360 interchange, with auxiliary lanes and turn lanes at intersections.

Project Length: Approximately 10.8 miles. General Purpose: The project will improve growth, travel demand, access and mobility, and safety. Final agency actions have been taken under: NEPA, FAHA, FAA, CAA, MBTA, ESA, Civil Rights Act, Section 404, Section 401, Section 4(f), Section 106, ARPA, AHPA, E.O.'s 11990, 11988, 12898, 11514, 11593, and 13175. NEPA document: EA with a FONSI issued October 26, 2009.

2. Project Location: SH 121 from IH 30 to FM 1187 primarily within the city of Fort Worth and Tarrant County. Project Reference Number: TxDOT CSJ: 0504-02-008, 0504-02-013 and 0504-02-022.

Project Web site: http://www.txdot.gov/project_information/projects/fort_worth/southwest_parkway/environmental_documents.htm.

Project Type: The project is planned to be a controlled-access divided tollway with discontinuous frontage roads. Ultimately, the project is planned for 6 lanes from IH 30 to IH 20 and 4 lanes from IH 20 to FM 1187.

Project Length: Approximately 15 miles. General Purpose: To provide a financially viable, effective and timely transportation solution which will improve regional mobility, increase people and goods carrying capacity, and alleviate further overburdening of the local transportation system. Final agency actions taken have been under: NEPA, FAHA, CAA, ESA, MBTA, Section 4(f), Civil Rights Act, Section 106, ARPA, AHPA, Section 404, Section 401, E.O.'s 11990, 11988, 12898, 11514, 11593 and 13175. NEPA document: EIS with a ROD issued June 13, 2005 and reaffirmed June 3, 2009.

(Catalog of Federal Domestic Assistance Program Number 20.205, Highway Planning and Construction. The regulations implementing Executive Order 12372 regarding intergovernmental consultation on Federal programs and activities apply to this program.)

Authority: 23 U.S.C. 139(l)(1).

Issued on: December 17, 2009.
Salvador Deocampo,
District Engineer, Austin Texas.

[FR Doc. E9-30648 Filed 12-24-09; 8:45 am]

BILLING CODE 4910-RY-P